DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Cooperative Charting Programs.

OMB Control Number: 0648-0022.

Form Number(s): None.

Type of Request: Regular (revision and extension of a currently approved information collection).

Number of Respondents: 110.

Average Hours per Response: 2 hours, 30 minutes.

Burden Hours: 440.

Needs and Uses: The U.S. Power Squadrons and the U.S. Coast Guard Auxiliary members report observations of changes that require additions, corrections or revisions to Nautical Charts. The information provided is used by NOAA, National Ocean Service, Office of Coast Survey to maintain and prepare chart additions that are used Nationwide by commercial and recreational navigators.

Affected Public: Individuals or households.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 19, 2018.
Sarah Brabson,
NOAA PRA Clearance Officer.

[FR Doc. 2018-01313 Filed 1-23-18; 8:45 am]

BILLING CODE 3510-JE-P